DEPARTMENT OF THE INTERIOR

Bureau of Land Management

[AA-6673-A, AA-6673-B, AA-6673-C, AA-6673-F, AA-6673-H, AA-6673-M; AK-964-1410-KC-P]

Alaska Native Claims Selection

AGENCY: Bureau of Land Management, Interior

ACTION: Notice of decision approving lands for conveyance.

SUMMARY: As required by 43 CFR 2650.7(d), notice is hereby given that an appealable decision approving the surface estate of certain lands for conveyance pursuant to the Alaska Native Claims Settlement Act will be issued to Alaska Peninsula Corporation, Successor in Interest to Kokhanok Native Corporation. The lands are in the vicinity of Kokhanok, Alaska, and are located in:

Lot 7, U.S. Survey No. 8501, Alaska.

Containing 80.37 acres.

Seward Meridian, Alaska,

T. 7 S., R. 30 W.,

Sec. 7.

Containing approximately 623 acres.

T. 8 S., R. 30 W.,

Secs. 1 and 9,

Secs. 12 to 16, inclusive.

Containing approximately 4,457 acres.

T. 7 S., R. 31 W.,

Secs. 8 to 12, inclusive.

Containing approximately 3,131 acres.

T. 7 S., R. 32 W.,

Secs. 3 and 4;

Secs. 10 and 11;

Secs. 14 to 17, inclusive;

Sec. 20;

Secs. 24 and 25;

Secs. 30 to 33, inclusive.

Containing approximately 506 acres.

T. 8 S., R. 32 W.,

Sec. 20.

Containing approximately 5 acres.

T. 10 S., R. 32 W.,

Secs. 13 and 24.

Containing approximately 1,280 acres.

T. 8 S., R. 33 W.,

Secs. 7, 10, and 11;

Secs. 14 and 15.

Containing approximately 128 acres.

Aggregating approximately 10,212 acres.

The subsurface estate in these lands will be conveyed to Bristol Bay Native Corporation when the surface estate is conveyed to Alaska Peninsula Corporation, Successor in Interest to Kokhanok Native Corporation. Notice of the decision will also be published four times in the Anchorage Daily News.

DATES: The time limits for filing an appeal are:

1. Any party claiming a property interest which is adversely affected by the decision shall have until July 20, 2009 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Hillary Woods,
Land Law Examiner, Land Transfer Adjudication I.

[FR Doc. E9-14402 Filed 6-18-09; 8:45 am]

BILLING CODE 4310-JA-P